DEPARTMENT OF HEALTH AND HUMAN SERVICES

Indian Health Service

American Indians Into Nursing

Announcement Type: New and Competing Continuation.

Funding Announcement Number: HHS-2019-IHS-NU-0001.

Assistance Listing (Catalog of Federal Domestic Assistance) Number: 93.970.

Key Dates

Application Deadline Date: June 20, 2019.

Earliest Anticipated Start Date: July 20, 2019.

I. Funding Opportunity Description

Statutory Authority

The Indian Health Service (IHS), Division of Health Professions Support, is accepting cooperative agreement applications for the American Indians into Nursing Program. This program is authorized under: Section 112 of the Indian Health Care Improvement Act, Public Law 94-437, as amended (IHCIA), codified at 25 U.S.C. 1616e. This program is described in the Assistance Listings located at https://beta.sam.gov (formerly known as Catalog of Federal Domestic Assistance) under 93.970.

Background

The IHS, an agency within the Department of Health and Human Services (HHS), is responsible for providing Federal health services to American Indians and Alaska Natives (AI/AN). The mission of the IHS is to raise the physical, mental, social, and spiritual health of AI/AN. The IHCIA authorizes the IHS to provide cooperative agreements to colleges, universities, and other entities to develop and maintain nursing education programs and recruit individuals to become registered nurses, certified nurse midwives, and nurse practitioners who will provide services to AI/AN people. The programs administered are designed to attract and recruit qualified AI/AN individuals into nursing and advanced practice nursing professions.

Purpose

The purpose of this IHS cooperative agreement is to recruit, retain, graduate and increase the number of registered nurses, certified nurse midwives and nurse practitioners who deliver health care services to AI/AN communities. The primary objectives of this cooperative agreement grant award are to: (1) Recruit and train AI/AN individuals to be baccalaureate prepared nurses; (2) facilitate associate degree registered nurses becoming baccalaureate prepared registered nurses; (3) provide a program that prepares practicing registered nurses for advanced nursing education; (4) provide a program that encourages registered nurses and advanced practice nurses to provide or continue to provide, health care services to AI/AN communities; and (5) provide scholarships to AI/AN individuals that will cover tuition, books, fees, room and board, stipend for living expenses, or other expenses incurred in connection with baccalaureate level nursing or advanced practice nursing programs. This notice of funding opportunity solicits applications that provide a preference to AI/AN students and a curriculum with a rural health and public health focus.

Limited Competition Justification

The limitation is based on IHS geographically high need areas: Navajo Area (New Mexico, Arizona), Billings Area (Montana, Wyoming), Great Plains Area (South Dakota, North Dakota, Nebraska), Albuquerque Area (Colorado, New Mexico, Nevada), and Phoenix Area (Nevada, Utah, Arizona). Historically and currently, these IHS areas have a high need for both registered nurses and advanced practice nurses. Many IHS service units within these areas are designated by the Health Resource and Service Administration (HRSA) as Health Professions Shortage Areas (HPSA). Additionally, many of these states have American Indian Serving Institutions (Tribal colleges and universities) that feed into universities with nursing programs.

II. Award Information

Funding Instrument

Cooperative Agreement.

Estimated Funds Available

The total funding identified for fiscal year (FY) 2019 is approximately $1,686,706. Individual award amounts are anticipated to be between $300,000 and $400,000. The funding available for competing and subsequent continuation awards issued under this announcement is subject to the availability of appropriations and budgetary priorities of the Agency. The IHS is under no obligation to make awards that are selected for funding under this announcement.

Anticipated Number of Awards

Approximately five awards will be issued under this program announcement.

Period of Performance

The period of performance is for five years.

Cooperative Agreement

Cooperative agreements awarded by the Department of Health and Human Services (HHS) are administered under the same policies as a grant. However, the funding agency (IHS) is anticipated to have substantial programmatic involvement in the project during the entire award segment. Below is a detailed description of the level of involvement required for the IHS.

Substantial IHS Involvement Description for Cooperative Agreement

(1) An IHS assigned program official will work with project director to ensure timely receipt of progress and audit reports and to ensure program compliance.

(2) An IHS program official will provide programmatic technical assistance to awardees as needed.

(3) An IHS program official will coordinate and conduct site visits as needed, if funds are available for travel.

(4) An IHS program official will conduct semi-annual conference calls with awardees and students.

(5) An IHS program official will work with the Division of Grants Management (DGM) to ensure all goals and objectives of the program are met.

(6) An IHS program official will provide American Indians into Nursing programs and scholarship recipients with information on IHS scholarship service obligation requirements.

(7) An IHS program official will initiate default proceedings within 90 days after receiving notification from the Program Director that a student has been dismissed from the nursing program, withdrawn from school, failed to graduate with a nursing degree, or failed to get licensed and begin obligated service time within 90 days of graduation.

III. Eligibility Information

1. Eligibility

Pursuant to 25 U.S.C. 1616e(a), the following entities are eligible:

(a) Accredited public or private schools of nursing,

(b) accredited Tribally controlled community colleges and Tribally controlled post-secondary vocational institutions, and

(c) nurse midwife programs and nurse practitioner programs, that are provided by any public or private institution.

All schools of nursing must be fully accredited without restrictions at the time of application by a national nurse educational accrediting body or state approval body recognized by the Secretary of the U.S. Department of Education for the purposes of nursing education. The schools offering a degree in nurse midwifery must provide verification of accreditation by the American College of Nurse Midwives. Tribally-controlled community colleges nursing programs and post-secondary vocational institutions must be fully accredited by an appropriate recognized nursing accrediting body without restrictions.

(a) In accordance with the IHCIA, funding preference will be given to applicants who have: (1) Programs that provide a preference to AI/AN; (2) programs that train nurse midwives or nurse practitioners; and (3) programs that are interdisciplinary, i.e., with medicine, pharmacy, dental and behavioral health students.

(b) Priorities: All complete, eligible applications will be considered. If more than one university and college application is received from an IHS area, only one award will be made to that particular area providing a DNP, MSN, or BSN program.

1. Priority I: At least two awards to public or private college or university, school of nursing which provides DNP, MSN, BSN, ADN (registered nurse, nurse practitioner, nurse midwife) degrees, not to exceed $400,000 per year up to a project period of five years.

2. Priority II: At least three awards to a Tribally-controlled community college, school of nursing which provides BSN and ADN (registered nurse) degrees, not to exceed $400,000 per year up to a project period of five years.

(c) Other preferences: Schools of nursing that have transcultural, cultural competency, and rural and public health care focus.

Current American Indians into Nursing awardees are eligible to apply for competing continuation funding under this announcement and must demonstrate that they have complied with previous terms and conditions of the American Indians into Nursing cooperative agreement in order to receive funding under this announcement.

Note: Please refer to Section IV.2 (Application and Submission Information/Subsection 2, Content and Form of Application Submission) for additional proof of applicant status documents required.

2. Cost Sharing or Matching

The IHS does not require matching funds or cost sharing for grants or cooperative agreements.

3. Other Requirements

Applications with budget requests that exceed the highest dollar amount outlined under the Award Information, Estimated Funds Available section, or exceed the Period of Performance outlined under the Award Information, Period of Performance section will be considered not responsive and will not be reviewed. The Division of Grants Management (DGM) will notify the applicant.

IV. Application and Submission Information

1. Obtaining Application Materials

The application package and detailed instructions for this announcement is hosted on http://www.Grants.gov.

Please direct questions regarding the application process to Mr. Paul Gettys at (301) 443-2114 or (301) 443-5204.

2. Content and Form Application Submission

The applicant must include the project narrative as an attachment to the application package. Mandatory documents for all applicants include:

• Abstract (one page) summarizing the project.

• Application forms:

• SF-424, Application for Federal Assistance.

○ SF-424A, Budget Information—Non-Construction Programs.

○ SF-424B, Assurances—Non-Construction Programs.

• Project Narrative (not to exceed 25 pages). See IV.2.A Project Narrative for instructions.

○ Background information on the organization.

○ Proposed scope of work, objectives, and activities that provide a description of what will be accomplished.

• Budget Justification and Narrative (not to exceed 5 pages). See IV.2.B Budget Narrative for instructions.

• One-page Timeframe Chart.

• Proof of accreditation.

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

○ Email confirmation from Federal Audit Clearinghouse (FAC) that audits were submitted; or

○ Face sheets from audit reports. Applicants can find these on the FAC website: https://harvester.census.gov/facdissem/Main.aspx.

Public Policy Requirements

All Federal public policies apply to IHS cooperative agreements, with the exception of the Discrimination Policy.

Requirements for Project and Budget Narratives

A. Project Narrative

This narrative should be a separate document that is no more than 25 pages and must: (1) Have consecutively numbered pages; (2) use black font not smaller than 12 points; (3) and be formatted to fit standard letter paper (8½ x 11 inches).

Be sure to succinctly answer all questions listed under the evaluation criteria (refer to Section V.1, Evaluation Criteria) and place all responses and required information in the correct section noted below or they will not be considered or scored. If the narrative exceeds the page limit, the application will be considered not responsive and not be reviewed. The 25-page limit for the narrative does not include the work plan, standard forms, Tribal resolutions, budget, budget justifications, narratives, and/or other appendix items.

There are three parts to the narrative: Part 1—Program Information; Part 2—Program Planning and Evaluation; and Part 3—Program Report. See below for additional details about what must be included in the narrative.

The page limitations below are for each narrative and budget submitted.

Part 1: Program Information (Limit—5 Pages)

Section 1: Needs

Present the comprehensive framework of the proposed American Indians into Nursing program. Clearly describe the unmet AI/AN nursing workforce needs in AI/AN communities. Describe the social determinants and health disparities that impact AI/AN communities and how the proposed program will serve the IHS and Tribal health care programs as well as support to IHS scholarship recipients. Discuss how these social determinants have historically affected access to AI/AN health care and have impacted AI/AN student's access to education specifically nursing education. Include the purpose and background of the program and prior experience with nurse recruitment programs.

Part 2: Program Planning and Evaluation (Limit—10 Pages)

Section 1: Program Plans

American Indians into Nursing program applicants must develop a comprehensive, succinct, well organized work plan to address the proposed project. The information should include the elements below but is not limited to the following: (1) Describe the administration of the program-strategies, activities, methods, techniques, or steps that will be use to achieve objectives in proposed project; (2) describe the strategy to attract pre-nursing students and recruit, retain, and graduate AI/AN nursing students and identify actions to monitor IHS scholarship recipients post-graduation for IHS service obligation; (3) describe how the activities of the project are defined by objectives and how the project will achieve the desired outcomes; (4) include a plan to achieve sustainability after the cooperative agreement is complete; (5) describe how the program will incorporate support to AI/AN nursing students who have experienced the social determinants in AI/AN communities; (6) describe how the program will support AI/AN students in meeting their social, physical, spiritual and academic needs; and, (7) as addressing the opioid crisis is a priority of the Department of Health and Human Services, the project plan may provide information on how the awardee will educate and train students in opioid addiction prevention, treatment and recovery.

Section 2: Program Evaluation

Applicant must provide a complete program evaluation plan that describes the projects methodology and strategies for assessing the progress of the objectives and outcomes of their program. The evaluation should address the successes, failures, and continuing improvements.

Part 3: Program Report (Limit—10 Pages)

Section 1: Describe Your Organization's Significant Program Activities and Accomplishments Over the Past Five Years Associated With the Goals of This Announcement

Previous awardees shall include objectives, strategies, and a brief description of the following for program function and or activity involved: (1) Compare actual accomplishments to the goals established for the period; (2) provide description of internal and external collaboration, new resources secured, interventions, successes, barriers identified and plans for the next quarter (academic year); (3) indicate reasons for slippage where established goals were not met and plan of action to overcome slippages; (4) indicate the number of current AI/AN recipients in the program and their academic status; and (5) indicate the number of AI/AN recipients placed in IHS and Tribal facilities and whom have completed their service obligations.

Section 2: Describe Major Activities Over the Last 24 Months

Please identify and summarize recent major project activities of the work done during the project period. Program activities shall include: Recruitment, retention and support activities to student, graduate and evaluation demonstrating performance measures.

B. Budget Narrative (Limit—5 Pages)

Provide a budget narrative that explains the amounts requested for each line of the budget. The budget narrative should specifically describe how each item will support the achievement of proposed objectives. Be very careful about showing how each item in the “other” category is justified. For subsequent budget years, the narrative should highlight the changes from year one or clearly indicate that there are no substantive budget changes during the period of performance. Do NOT use the budget narrative to expand the project narrative.

3. Submission Dates and Times

Applications must be submitted through Grants.gov by 11:59 p.m. Eastern Daylight Time (EDT) on the Application Deadline Date listed in the Key Dates section. Any application received after the application deadline will not be accepted for review. Grants.gov will notify the applicant via email if the application is rejected.

If technical challenges arise and assistance is required with the application process, contact Grants.gov Customer Support (see contact information at https://www.grants.gov). If problems persist, contact Mr. Paul Gettys (Paul.Gettys@ihs.gov), DGM Grant Systems Coordinator, by telephone at (301) 443-2114 or (301) 443-5204. Please be sure to contact Mr. Gettys at least ten days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Preaward costs are allowable up to 90 days before the start date of the award provided the costs are otherwise allowable if awarded. Preaward costs are incurred at the risk of the applicant.

• The available funds are inclusive of direct and appropriate indirect costs.

• Only one cooperative agreement will be awarded per applicant.

6. Electronic Submission Requirements

All applications must be submitted via Grants.gov. Please use the http://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Robert Tarwater, Director, DGM, (see Section IV.6 below for additional information). A written waiver request must be sent to GrantsPolicy@ihs.gov with a copy to Robert.Tarwater@ihs.gov. The waiver must: (1) Be documented in writing (emails are acceptable), before submitting an application by some other method, and (2) include clear justification for the need to deviate from the required application submission process.

Once the waiver request has been approved, the applicant will receive a confirmation of approval email containing submission instructions. A copy of the written approval must be included with the application that is submitted to DGM. Applications that are submitted without a copy of the signed waiver from the Director of the DGM will not be reviewed. The Grants Management Officer of the DGM will notify the applicant via email of this decision. Applications submitted under waiver must be received by the DGM no later than 5:00 p.m., EDT, on the Application Deadline Date. Late applications will not be accepted for processing. Applicants that do not adhere to the timelines for System for Award Management (SAM) and Grants.gov and/or that fail to request timely assistance with technical issues will not be considered for a waiver to submit an application via alternative means.

Please be aware of the following:

• Please search for the application package in http://www.Grants.gov by entering the CFDA number or the Funding Opportunity Number. Both numbers are located in the header of this announcement.

• If you experience technical challenges while submitting your application, please contact Grants.gov Customer Support (see contact information at https://www.grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• All applicants must comply with any page limits described in this funding announcement.

• After submitting the application, the applicant will receive an automatic acknowledgment from Grants.gov that contains a Grants.gov tracking number. The IHS will not notify the applicant that the application has been received.

Dun and Bradstreet (D&B) Data Universal Numbering System (DUNS)

Applicants and grantee organizations are required to obtain a DUNS number and maintain an active registration in the SAM database. The DUNS number is a unique 9-digit identification number provided by D&B, which uniquely identifies each entity. The DUNS number is site specific; therefore, each distinct performance site may be assigned a DUNS number. Obtaining a DUNS number is easy, and there is no charge. To obtain a DUNS number, please access the request service through http://fedgov.dnb.com/webform, or call (866) 705-5711.

The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM will need to obtain a DUNS number first and then access the SAM online registration through the SAM home page at https://www.sam.gov (U.S. organizations will also need to provide an Employer Identification Number from the Internal Revenue Service that may take an additional 2-5 weeks to become active). Please see SAM.gov for details on the registration process and timeline. Registration with the SAM is free of charge, but can take several weeks to process. Applicants may register online at https://www.sam.gov.

Additional information on implementing the Transparency Act, including the specific requirements for DUNS and SAM, can be found on the IHS Grants Management, Grants Policy website: http://www.ihs.gov/dgm/policytopics/.

V. Application Review Information

Weights assigned to each section are noted in parentheses. The 25 page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. Points are assigned as follows:

1. Criteria

A. Introduction and Need for Assistance (10 Points)

a. Applications must justify overall need of the program and clearly demonstrate the ability to administer the cooperative agreement, and indicate prior experience with similar programs.

b. Describe the target population receiving IHS scholarships (preference will be given to schools of nursing that recruit, retain and graduate AI/AN veterans and veterans who have medical military experience).

c. Describe how the program will increase the number of registered nurses, nurse midwives and nurse practitioners in IHS.

d. Describe relevance of the program relating the objectives to the purposes of the cooperative agreement.

e. Describe the differences between the current and proposed activities (previous awardees).

B. Project Objective(s), Work Plan and Approach (40 Points)

Applications must clearly state specific, time-framed, measurable objectives for the goals related to the purpose of the IHS nursing cooperative agreement.

(1) Objectives:

(a) Describe how the program will increase the number of AI/AN nursing students that are recruited, retained and graduated from school of nursing.

(b) Describe how the program will recruit AI/AN students who are veterans and veterans who have experience as an emergency medical technician (EMT), hospital corpsman, paramedic/military medic, license vocational/practical nurse and nurses (associate or diploma nurse).

(c) Describe how the program will offer or establish formal bridge program agreements between Tribal colleges, universities.

(d) Describe how the program will provide a program that increases the skills of, and provide continuing education to registered nurses, nurse practitioners and nurse midwives.

(e) Describe how the program will assist IHS program officials with job placement and track the IHS scholarship recipient's service obligation.

(f) Describe clearly how the program will collect students' BIA-4437 forms to verify whether students receiving tuition support in their program are members of eligible, federally-recognized tribes.

(g) As addressing the opioid crisis is a priority of the Department of Health and Human Services, describe how the proposed program will educate and train students in opioid addiction prevention, treatment and recovery.

(2) Methodology:

(a) Describe strategies, activities, steps, timelines, and staff for implementation of proposal of projects.

(b) Describe the methodology of how IHS scholarships will be awarded to nursing students.

(c) Provide evidence supporting the proposed methodologies using historical data and prior experiences.

(3) Approach:

(a) Describes how the program will establish or collaborate with existing IHS and Tribal programs and colleges.

(i) To establish an agreement for clinical rotations.

(ii) To establish a faculty exchange program to enhance cultural competency and faculty strength.

(iii) Offer formal bridge programs agreements between Tribal colleges and universities so as to provide a program that increases the skills of, and provide continuing education to nurses, nurse practitioners, and nurse midwives.

(b) Include challenges that are likely to be encountered or have been a challenge in designing and implementing the activities in the work plan and approaches that will be used to resolve challenges.

(c) Describe how the program will sustain the project after the period of performance ends. Include in the sustainability plan the barriers to achieving self-sufficiency.

C. Program Evaluation (30 Points)

Applicant must include an evaluation plan that describes strategies for assessing the progress and outcomes of their projects. The evaluation plan should be linked to the objectives and purpose of the cooperative agreement. The proposed project shall have evaluation measures that demonstrate how the program is meeting identified goals and objectives where programs can collect, track, and report performance measures on a semi-annual basis and for periodic audit reports. Applicants must include how the program will collect and manage student scholarship data. Applicants must describe any potential obstacles for implementing the program performance evaluation and how those obstacles will be addressed.

D. Organizational Capabilities, Key Personnel and Qualifications (15 Points)

Provide information on applicant's organization, philosophy, and practice methods. Describe how all will contribute to the ability to conduct program requirements and meet American Indians into Nursing program/cooperative agreement purpose, objectives, and expectations. Include nursing accreditation documentation. All schools of nursing that are associated with the project and have conferring degrees must be accredited.

E. Categorical Budget and Budget Justification (5 Points)

(1) Personnel costs: Applicants shall identify one Program Director. The Program Director must be a licensed registered nurse.

(2) Key support personnel: Provide names, title, position description, salary, and fringe benefits. Administrative cost is limited to 8% of the award.

(3) Consultants: Provide names, affiliations and qualifications of each consultant, including expected rate of compensation, travel, per diem and other related costs.

(4) Travel: Name conferences or other recruitment events, airline tickets, lodging, per diem, booth, public transportation, or other related costs.

(5) Equipment: Must be related to the objectives of the project, retained by awardee, use in accordance with the terms of the cooperative agreement award, and must comply with procurement requirements for Federal grant and cooperative agreements.

(6) Scholarships: Must cover tuition, fees, books, stipend, and other related educational expenses. The proposed project must use IHS scholarship funds in a manner that will meet the needs of eligible AI/AN students. The budget narrative must indicate the number of students to receive scholarship for each year of the cooperative agreement and the amount of each scholarship per student.

Multi-Year Project Requirements

Applications must include a brief project narrative and budget (one additional page per year) addressing the developmental plans for each additional year of the project. This attachment will not count as part of the project narrative or the budget narrative.

Additional Documents Can Be Uploaded as Appendix Items in Grants.gov

• Work plan, logic model and/or time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened for eligibility and completeness as outlined in the funding announcement. Applications that meet the eligibility criteria shall be reviewed for merit by the ORC based on evaluation criteria. Incomplete applications and applications that are not responsive to the administrative thresholds will not be referred to the ORC and will not be funded. The applicant will be notified of this determination.

Applicants must address all program requirements and provide all required documentation.

3. Notifications of Disposition

All applicants will receive an Executive Summary Statement from the IHS within 30 days of the conclusion of the ORC outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the grant, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for one year. If funding becomes available during the course of the year, the application may be reconsidered.

Note: Any correspondence other than the official NoA executed by an IHS grants management official announcing to the project director that an award has been made to their organization is not an authorization to implement their program on behalf of the IHS.

VI. Award Administration Information

1. Administrative Requirements

Cooperative agreements are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

2. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate agreement is provided to the DGM.

Generally, IDC rates for IHS grantees are negotiated with the Division of Cost Allocation (DCA) https://rates.psc.gov/ and the Department of Interior (Interior Business Center) https://www.doi.gov/ibc/services/finance/indirect-Cost-Services/indian-tribes. For questions regarding the indirect cost policy, please call the Grants Management Specialist listed under “Agency Contacts” or the main DGM office at (301) 443-5204.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required semi-annually, within 30 days after the budget period ends. These reports must include a brief comparison of actual accomplishments to the goals established for the period, a summary of progress to date or, if applicable, provide sound justification for the lack of progress, and other pertinent information as required. A final report must be submitted within 90 days of expiration of the period of performance.

B. Financial Reports

Federal Financial Report (FFR or SF-425), Cash Transaction Reports are due 30 days after the close of every calendar quarter to the Payment Management Services, HHS at https://pms.psc.gov. The applicant is also requested to upload a copy of the FFR (SF-425) into our grants management system, GrantSolutions. Failure to submit timely reports may result in adverse award actions blocking access to funds.

Grantees are responsible and accountable for accurate information being reported on all required reports: The Progress Reports and Federal Financial Report.

C. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: (1) The period of performance start date was October 1, 2010 or after, and (2) the primary awardee will have a $25,000 sub-award obligation dollar threshold during any specific reporting period will be required to address the FSRS reporting.

For the full IHS award term implementing this requirement and additional award applicability information, visit the DGM Grants Policy website at http://www.ihs.gov/dgm/policytopics/.

D. Compliance With Executive Order 13166 Implementation of Services Accessibility Provisions for All Grant Application Packages and Funding Opportunity Announcements

Recipients of federal financial assistance (FFA) from HHS must administer their programs in compliance with federal civil rights law. This means that recipients of HHS funds must ensure equal access to their programs without regard to a person's race, color, national origin, disability, age and, in some circumstances, sex and religion. This includes ensuring your programs are accessible to persons with limited English proficiency. The HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html. Please contact the HHS OCR for more information about obligations and prohibitions under federal civil rights laws at https://www.hhs.gov/ocr/about-us/contact-us/index.html or call (800) 368-1019 or TDD (800) 537-7697. Also note it is an HHS Departmental goal to ensure access to quality, culturally competent care, including long-term services and supports, for vulnerable populations. For further guidance on providing culturally and linguistically appropriate services, recipients should review the National Standards for Culturally and Linguistically Appropriate Services in Health and Health Care at https://minorityhealth.hhs.gov/omh/browse.aspx?lvl=2&lvlid=53.

Pursuant to 45 CFR 80.3(d), an individual shall not be deemed subjected to discrimination by reason of his/her exclusion from benefits limited by federal law to individuals eligible for benefits and services from the IHS.

Recipients will be required to sign the HHS-690 Assurance of Compliance form which can be obtained from the following website: http://www.hhs.gov/sites/default/files/forms/hhs-690.pdf, and send it directly to the: U.S. Department of Health and Human Services, Office of Civil Rights, 200 Independence Ave. SW, Washington, DC 20201.

E. Federal Awardee Performance and Integrity Information System (FAPIIS)

The IHS is required to review and consider any information about the applicant that is in the Federal Awardee Performance and Integrity Information System (FAPIIS), at http://www.fapiis.gov, before making any award in excess of the simplified acquisition threshold (currently $150,000) over the period of performance. An applicant may review and comment on any information about itself that a federal awarding agency previously entered. The IHS will consider any comments by the applicant, in addition to other information in FAPIIS in making a judgment about the applicant's integrity, business ethics, and record of performance under federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive federal awards (currently active grants, cooperative agreements, and procurement contracts) greater than $10,000,000 for any period of time during the period of performance of an award/project.

Mandatory Disclosure Requirements

As required by 2 CFR part 200 of the Uniform Guidance, and the HHS implementing regulations at 45 CFR part 75, effective January 1, 2016, the IHS must require a non-federal entity or an applicant for a federal award to disclose, in a timely manner, in writing to the IHS or pass-through entity all violations of federal criminal law involving fraud, bribery, or gratuity violations potentially affecting the federal award.

Submission is required for all applicants and recipients, in writing, to the IHS and to the HHS Office of Inspector General all information related to violations of federal criminal law involving fraud, bribery, or gratuity violations potentially affecting the federal award. 45 CFR 75.113.

Disclosures must be sent in writing to:

U.S. Department of Health and Human Services, Indian Health Service, Division of Grants Management, ATTN: Robert Tarwater, Director, 5600 Fishers Lane, Mail Stop: 09E70, Rockville, MD 20857 (Include “Mandatory Grant Disclosures” in subject line); Office: (301) 443-5204; Fax: (301) 594-0899; Email: Robert.Tarwater@ihs.gov

AND

U.S. Department of Health and Human Services, Office of Inspector General, ATTN: Mandatory Grant Disclosures, Intake Coordinator, 330 Independence Avenue SW, Cohen Building, Room 5527, Washington, DC 20201, URL: http://oig.hhs.gov/fraud/report-fraud/index.asp (Include “Mandatory Grant Disclosures” in subject line); Fax: (202) 205-0604 (Include “Mandatory Grant Disclosures” in subject line) or Email: MandatoryGranteeDisclosures@oig.hhs.gov

Failure to make required disclosures can result in any of the remedies described in 45 CFR 75.371 Remedies for noncompliance, including suspension or debarment (See 2 CFR parts 180 & 376 and 31 U.S.C. 3321).

VII. Agency Contacts

1. Questions on the programmatic issues may be directed to: Eric Pinto, Senior Program Specialist, Office of Human Resource, Division of Health Professions Support, 5600 Fishers Lane, Mail Stop: OHR 11E53A, Rockville, MD 20857, Phone: (301) 443-5086, Fax: (301) 443-6048, Email: Eric.Pinto@ihs.gov.

2. Questions on grants management and fiscal matters may be directed to: Vanietta Armstrong, Senior Grants Management Specialist, 5600 Fishers Lane, Mail Stop: 09E70, Rockville, MD 20857, Phone: (301) 443-4792, Fax: (301) 594-0899, Email: Vanietta.Armstrong@ihs.gov.

3. Questions on systems matters may be directed to: Paul Gettys, Grant Systems Coordinator, 5600 Fishers Lane, Mail Stop: 09E70, Rockville, MD 20857, Phone: (301) 443-2114; or the DGM main line (301) 443-5204, Fax: (301) 594-0899, Email: Paul.Gettys@ihs.gov.

VIII. Other Information

The Public Health Service strongly encourages all grant, cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Chris Buchanan,
Assistant Surgeon General, U.S. Public Health Service, Deputy Director, Indian Health Service.

[FR Doc. 2019-10097 Filed 5-15-19; 8:45 am]

BILLING CODE 4165-16-P